ENVIRONMENTAL PROTECTION AGENCY

[EPA-HQ-OPP-2008-0522; FRL-8373-3]

North American Free Trade Agreement Technical Working Group on Pesticides; Proposed Five-Year Strategy, 2008-2013; Notice of Availability

AGENCY: Environmental Protection Agency (EPA).

ACTION: Notice.

SUMMARY: EPA is releasing for public comment the proposed Five-Year Strategy, 2008-2013, of the North American Free Trade Agreement Technical Working Group on Pesticides. In this document, the North American Free Trade Agreement (NAFTA) Technical Working Group (TWG) on Pesticides states its goal to create an aligned North American registration system for pesticides and products treated with pesticides and make work-sharing a way of doing business. The strategic objectives are to: provide U.S., Canadian and Mexican growers with equal access to—and at the same time introduction of—pest management tools, including safer alternatives; work cooperatively to re-evaluate and reregister older pesticides using each country's re-evaluation programs to the fullest extent possible to increase efficiency; and integrate smart business approaches and practices into NAFTA TWG work.

DATES: Comments must be received on or before August 18, 2008.

ADDRESSES: Submit your comments, identified by docket identification (ID) number EPA-HQ-OPP-2008-0522, by one of the following methods:

• Federal eRulemaking Portal: http://www.regulations.gov. Follow the on-line instructions for submitting comments.

• Mail: Office of Pesticide Programs (OPP) Regulatory Public Docket (7502P), Environmental Protection Agency, 1200 Pennsylvania Ave., NW, Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2008-0522. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Lorry Frigerio, Field and External Affairs Division, Office of Pesticide Programs, Environmental Protection Agency, 1200 Pennsylvania Ave., NW., Washington, DC 20460-0001; telephone number: 703-605-0654; fax number: 703-308-1850; e-mail address: frigerio.lorry@epa.gov.

SUPPLEMENTARY INFORMATION:

I. General Information

A. Does this Action Apply to Me?

You may be potentially affected by this action if you are a U.S., Canadian or Mexican grower, registrant, researcher, manufacturer, operator, distributor or government regulator of pesticide products in one of the NAFTA countries, as well as an public group or member of the public interested in their use.

If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

The Agency is releasing for public comment the proposed Five-Year Strategy, 2008-2013, of the North American Free Trade Agreement Technical Working Group on Pesticides. It can be found in docket ID number EPA-HQ-OPP-2008-0522. EPA and its North American counterparts, Pest Management Regulatory Agency (PMRA) of Canada and Secretaría de Agricultura, Ganadería, Desarrollo Rural, Pesca y Alimentatíon (SAGARPA) of Mexico, provide overall guidance and policy direction in developing easier and less expensive pesticide regulation and trade among the three countries and in meeting the environmental, ecological and human health objectives of NAFTA.

The Five-Year Strategy will guide the TWG's future work and direction. It reflects the collective goal of creating an aligned North American registration system for pesticides and for products treated with pesticides as well as a commitment to partners. It also presents the NAFTA TWG governance structure. The environment within which the TWG operates is constantly changing. A number of drivers, both external and internal, are critical in influencing TWG's strategic directions. They define the work that the TWG must deliver to meet stakeholder needs and improve overall outcomes. The TWG aims to ensure it is well positioned to take advantage of opportunities, monitor trends and assess implications.

List of Subjects

Environmental protection, harmonization of data requirements, human safety and science issues, effective communication and planning, maintaining high international standards, performance measurement and evaluation.

Dated: July 11, 2008.
Debra Edwards,
Director, Office of Pesticide Programs.

[FR Doc. E8-16381 Filed 7-16-08; 8:45 am]

BILLING CODE 6560-50-S